DEPARTMENT OF ENERGY

Federal Energy Regulatory Commission

[Docket No. CP24-75-001]

[Docket No. CP25-505-000]

[Docket No. CP25-506-000]

[Docket No. PF23-2-000]

Sabine Pass Liquefaction, LLC; Sabine Pass Liquefaction Stage V, LLC; Sabine Crossing, LLC; Cheniere Creole Trail Pipeline, L.P; Notice of Application and Establishing Intervention Deadline

Take notice that on June 6, 2025, Sabine Pass Liquefaction, LLC; Sabine Pass Liquefaction Stage V, LLC (collectively, Sabine Pass), Sabine Crossing, LLC (Sabine Crossing), and Cheniere Creole Trail Pipeline, L.P. (Cheniere) (collectively the Applicants), 845 Texas Avenue, Houston, Texas 77002, jointly filed an application under sections 3 and 7(c) of the Natural Gas Act (NGA) and Parts 153, 157, and 284 of the Commission's regulations requesting authorization to site, construct, and operate the Sabine Pass Stage 5 Expansion Project, the Sabine Crossing Pipeline Project and the Cheniere Expansion Project.

Sabine Pass requests authorization to expand the existing Sabine Pass liquefied natural gas (LNG) facility in Cameron Parish, Louisiana, by adding three new liquefaction trains (Trains 7, 8, and 9), each with a maximum LNG liquefaction capacity of approximately 300 billion cubic feet per year (Bcf/y) (equivalent to 6.0 million tonnes per annum (mtpa) of LNG per train), and one boil-off gas re-liquefaction unit which will produce an additional 50 Bcf/y (1.0 mtpa) of liquefaction capacity for an overall LNG terminal production capacity of 950 Bcf/y (19 mtpa).

Sabine Crossing requests authorization to (i) construct approximately 55.6 miles of 48-inch-diameter natural gas pipeline extending from the Sabine Pass LNG Terminal across Jefferson County, Texas and then into Liberty County, Texas; (ii) construct the new Hampshire Compressor Station, consisting of four 52,500 horsepower (HP) compressor units for a total of 210,000 HP; and (iii) various appurtenant facilities. The Sabine Crossing Pipeline Project will allow Sabine Pass to deliver up to 2.7 Bcf/d of natural gas to the Sabine Pass LNG Terminal. Sabine Crossing estimates the total cost of the Sabine Crossing Pipeline Project to be $1,626,222,797 and proposes initial rates to reflect the estimated cost of the project recovered over the full design capacity, using a straight fixed variable rate design.

Cheniere requests authorization to (i) expand the existing Gillis Compressor Station by 46,940 HP, consisting of two 23,470 HP compressor units in Beauregard Parish, Louisiana; (ii) construct the new 52,500 HP Tarpon Compressor Station, in Cameron Parish, Louisiana; and (iii) expand the existing meter and regulation station located within the Sabine Pass LNG Terminal to accommodate increased deliveries. The project will allow Cheniere to provide up to 0.9 Bcf/d of incremental transportation capacity on Cheniere to the expanded delivery point at Sabine Pass LNG Terminal. Cheniere estimates the total cost of the project to be $390,269,433 and has designed an initial, incremental firm transportation base reservation rate to recover the costs of the incremental Cheniere Expansion Project, all as more fully set forth in the application which is on file with the Commission and open for public inspection.

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

Any questions regarding the proposed project should be directed to Karri Mahmoud, Director, Environmental and Regulatory Projects, Cheniere Energy, Inc., 845 Teas Avenue, Suite 1500, Houston, Texas 77002, by phone at (713) 375-5544, or by email at Karri.Mahmoud@Cheniere.com.

On May 30, 2023, the Commission granted the Applicants' request to utilize the National Environmental Policy Act Pre-Filing Process and assigned Docket No. PF23-2-000 to staff activities involved in the Project. Now, as of the filing of the June 6, 2025 application, the Pre-Filing Process for this project has ended. From this time forward, this proceeding will be conducted in Docket No. CP24-75-001, CP25-505-000, and CP25-506-000 as noted in the caption of this Notice.

Pursuant to section 157.9 of the Commission's Rules of Practice and Procedure,¹ within 90 days of this Notice the Commission staff will either: complete its environmental review and place it into the Commission's public record (eLibrary) for this proceeding; or issue a Notice of Schedule for Environmental Review. If a Notice of Schedule for Environmental Review is issued, it will indicate, among other milestones, the anticipated date for the Commission staff's issuance of the final environmental impact statement (FEIS) or environmental assessment (EA) for this proposal. The filing of an EA in the Commission's public record for this proceeding or the issuance of a Notice of Schedule for Environmental Review will serve to notify federal and state agencies of the timing for the completion of all necessary reviews, and the subsequent need to complete all federal authorizations within 90 days of the date of issuance of the Commission staff's FEIS or EA.

¹ 18 CFR 157.9.

Water Quality Certification

Sabine Pass stated that a water quality certificate under section 401 of the Clean Water Act is required for the project from the LDEQ and Texas RRC. When available, Sabine Pass should submit to the Commission a copy of the request for certification for the Commission authorization, including the date the request was submitted to the certifying authority, and either (1) a copy of the certifying authority's decision or (2) evidence of waiver of water quality certification.

Public Participation

There are three ways to become involved in the Commission's review of this project: you can file comments on the project, you can protest the filing, and you can file a motion to intervene in the proceeding. There is no fee or cost for filing comments or intervening. The deadline for filing a motion to intervene is 5:00 p.m. Eastern Time on July 9, 2025. How to file protests, motions to intervene, and comments is explained below.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Comments

Any person wishing to comment on the project may do so. Comments may include statements of support or objections, to the project as a whole or specific aspects of the project. The more specific your comments, the more useful they will be.

Protests

Pursuant to sections 157.10(a)(4) ² and 385.211 ³ of the Commission's regulations under the NGA, any person ⁴ may file a protest to the application. Protests must comply with the requirements specified in section 385.2001 ⁵ of the Commission's regulations. A protest may also serve as a motion to intervene so long as the protestor states it also seeks to be an intervenor.

² 18 CFR 157.10(a)(4).

³ 18 CFR 385.211.

⁴ Persons include individuals, organizations, businesses, municipalities, and other entities. 18 CFR 385.102(d).

⁵ 18 CFR 385.2001.

To ensure that your comments or protests are timely and properly recorded, please submit your comments on or before July 9, 2025.

There are three methods you can use to submit your comments or protests to the Commission. In all instances, please reference the Project docket number CP24-75-001, CP25-505-000 and CP25-506-000 in your submission.

(1) You may file your comments electronically by using the eComment feature, which is located on the Commission's website at www.ferc.gov under the link to Documents and Filings. Using eComment is an easy method for interested persons to submit brief, text-only comments on a project;

(2) You may file your comments or protests electronically by using the eFiling feature, which is located on the Commission's website (www.ferc.gov) under the link to Documents and Filings. With eFiling, you can provide comments in a variety of formats by attaching them as a file with your submission. New eFiling users must first create an account by clicking on “eRegister.” You will be asked to select the type of filing you are making; first select “General” and then select “Comment on a Filing”; or

(3) You can file a paper copy of your comments or protests by mailing them to the following address below. Your written comments must reference the Project docket number (CP24-75-001, CP25-505-000 and CP25-506-000).

To file via USPS: Debbie-Anne A. Reese, Secretary, Federal Energy Regulatory Commission, 888 First Street NE, Washington, DC 20426.

To file via any other courier: Debbie-Anne A. Reese, Secretary, Federal Energy Regulatory Commission, 12225 Wilkins Avenue, Rockville, Maryland 20852.

The Commission encourages electronic filing of comments (options 1 and 2 above) and has eFiling staff available to assist you at (202) 502-8258 or FercOnlineSupport@ferc.gov.

Persons who comment on the environmental review of this project will be placed on the Commission's environmental mailing list, and will receive notification when the environmental documents (EA or EIS) are issued for this project and will be notified of meetings associated with the Commission's environmental review process.

The Commission considers all comments received about the project in determining the appropriate action to be taken. However, the filing of a comment alone will not serve to make the filer a party to the proceeding. To become a party, you must intervene in the proceeding. For instructions on how to intervene, see below.

Interventions

Any person, which includes individuals, organizations, businesses, municipalities, and other entities,⁶ has the option to file a motion to intervene in this proceeding. Only intervenors have the right to request rehearing of Commission orders issued in this proceeding and to subsequently challenge the Commission's orders in the U.S. Circuit Courts of Appeal.

⁶ 18 CFR 385.102(d).

To intervene, you must submit a motion to intervene to the Commission in accordance with Rule 214 of the Commission's Rules of Practice and Procedure ⁷ and the regulations under the NGA ⁸ by the intervention deadline for the project, which is July 9, 2025. As described further in Rule 214, your motion to intervene must state, to the extent known, your position regarding the proceeding, as well as your interest in the proceeding. For an individual, this could include your status as a landowner, ratepayer, resident of an impacted community, or recreationist. You do not need to have property directly impacted by the project in order to intervene. For more information about motions to intervene, refer to the FERC website at https://www.ferc.gov/resources/guides/how-to/intervene.asp.

⁷ 18 CFR 385.214.

⁸ 18 CFR 157.10.

There are two ways to submit your motion to intervene. In both instances, please reference the Project docket number CP24-75-001, CP25-505-000 and CP25-506-000 in your submission.

(1) You may file your motion to intervene by using the Commission's eFiling feature, which is located on the Commission's website (www.ferc.gov) under the link to Documents and Filings. New eFiling users must first create an account by clicking on “eRegister.” You will be asked to select the type of filing you are making; first select “General” and then select “Intervention.” The eFiling feature includes a document-less intervention option; for more information, visit https://www.ferc.gov/docs-filing/efiling/document-less-intervention.pdf.; or

(2) You can file a paper copy of your motion to intervene, along with three copies, by mailing the documents to the address below. Your motion to intervene must reference the Project docket number CP24-75-001, CP25-505-000 and CP25-506-000.

To file via USPS: Debbie-Anne A. Reese, Secretary, Federal Energy Regulatory Commission, 888 First Street NE, Washington, DC 20426.

To file via any other courier: Debbie-Anne A. Reese, Secretary, Federal Energy Regulatory Commission, 12225 Wilkins Avenue, Rockville, Maryland 20852.

The Commission encourages electronic filing of motions to intervene (option 1 above) and has eFiling staff available to assist you at (202) 502-8258 or FercOnlineSupport@ferc.gov.

Protests and motions to intervene must be served on the applicant either by mail at: Karri Mahmoud, Director, Environmental and Regulatory Projects, Cheniere Energy, Inc., 845 Teas Avenue, Suite 1500, Houston, Texas 77002, or by email at Karri.Mahmoud@Cheniere.com. Any subsequent submissions by an intervenor must be served on the applicant and all other parties to the proceeding. Contact information for parties can be downloaded from the service list at the eService link on FERC Online. Service can be via email with a link to the document.

All timely, unopposed ⁹ motions to intervene are automatically granted by operation of Rule 214(c)(1).¹⁰ Motions to intervene that are filed after the intervention deadline are untimely, and may be denied. Any late-filed motion to intervene must show good cause for being late and must explain why the time limitation should be waived and provide justification by reference to factors set forth in Rule 214(d) of the Commission's Rules and Regulations.¹¹ A person obtaining party status will be placed on the service list maintained by the Secretary of the Commission and will receive copies (paper or electronic) of all documents filed by the applicant and by all other parties.

⁹ The applicant has 15 days from the submittal of a motion to intervene to file a written objection to the intervention.

¹⁰ 18 CFR 385.214(c)(1).

¹¹ 18 CFR 385.214(b)(3) and (d).

Tracking the Proceeding

Throughout the proceeding, additional information about the project will be available from the Commission's Office of External Affairs, at (866) 208-FERC, or on the FERC website at www.ferc.gov using the “eLibrary” link as described above. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. For more information and to register, go to www.ferc.gov/docs-filing/esubscription.asp.

Intervention Deadline: 5:00 p.m. Eastern Time on July 9, 2025.

Dated: June 18, 2025.
Debbie-Anne A. Reese,
Secretary.

[FR Doc. 2025-11578 Filed 6-23-25; 8:45 am]

BILLING CODE 6717-01-P